DEPARTMENT OF HEALTH AND HUMAN SERVICES

Office of Refugee Resettlement

Noncompetitive Successor Award

AGENCY: Division of Community Resettlement, Office of Refugee Resettlement, ACF, DHHS.

ACTION: Notice of a Noncompetitive Successor Award to Northern Virginia Family Service.

CFDA#: 93.604.

Legislative Authority: “Torture Victims Relief Act (TVRA) of 1998,” Public Law 105-320 (22 U.S.C. 2152 note), reauthorized by Public Law 109-165 in January 2006. Sec. 5(a) of the law provides: Assistance for Treatment of Torture Victims—The Secretary of Health and Human Services may provide grants to programs in the United States to cover the cost of the following services: (1) Services for the rehabilitation of victims of torture, including treatment of the physical and psychological effects of torture. (2) Social and legal services for victims of torture. (3) Research and training for health care providers outside of treatment centers, or programs for the purpose of enabling such providers to provide the services described in paragraph (1).

Amount of Award: Remainder of current budget period April 1, 2008 through September 29, 2008. Award $225,896. Final budget period of the originally approved three-year project period September 30, 2008 through September 29, 2009. Annual Amount $415,000.

Project Period: April 1, 2008-September 29, 2009.

Summary: In FY 2006, ORR awarded a competitive Services for Survivors of Torture grant to the Center for Multicultural Human Services (CMHS) in Falls Church, Virginia. The original project period was from September 30, 2006 through September 29, 2009. CMHS served as fiscal sponsor and legal entity of the approved project. As of March 31, 2008, CMHS ceased operations. CMHS has requested permission for Northern Virginia Family Service to assume the grant. Northern Virginia has agreed to this request. The effect of this deviation request is to transfer the grant from the initial grantee to a new grantee with the scope and operations of the grant remaining unchanged.

FOR FURTHER INFORMATION CONTACT: Ronald Munia, Director, Division of Community Resettlement, Office of Refugee Resettlement, 370 L'Enfant Promenade, SW., Washington, DC 20447. Telephone: 202-401-4559. E-mail: Ronald.Munia@acf.hhs.gov.

Dated: September 9, 2008.
Pamela Green-Smith,
Director, Division of Refugee Assistance, Office of Refugee Resettlement.

[FR Doc. E8-21614 Filed 9-16-08; 8:45 am]

BILLING CODE 4184-01-P